DEPARTMENT OF COMMERCE

Submission for OMB Review; Comment Request

The Department of Commerce will submit to the Office of Management and Budget (OMB) for clearance the following proposal for collection of information under the provisions of the Paperwork Reduction Act.

Agency: U.S. Census Bureau.

Title: Participant Statistical Areas Program.

OMB Control Number: 0607-XXXX.

Form Number(s):

20PSAP-F-500—State Recognized Tribes Update Form.

20PSAP-F-510—Contact Update Form.

20PSAP-F-511—Product Preference Form.

20PSAP-F-520—State Tribal Liaison Contact Update Form.

20PSAP-F-530—Federally Recognized Tribe Contact Update Form.

20PSAP-F-540—Federally Recognized Tribe Product Preference Form.

Type of Request: Regular submission.

Number of Respondents: 3,801.

Average Hours per Response: varies per Fiscal Year (FY).

Average Time per Response per FY 2018: 5.

Average Time per Response per FY 2019: 25.

Average Time per Response per FY 2020: 10.

Burden Hours: 152,040 (All Phases, All FYs).

FY 2018 Burden Hours (Internal Review Phase): 19,005

FY 2019 Burden Hours (Delineation Phase): 95,025

FY 2020 Burden Hours (Verification Phase): 38,010

Needs and Uses

The Partnership Statistical Areas Program (PSAP) is one of many voluntary geographic partnership programs. PSAP collects suggested statistical boundaries to update the U.S. Census Bureau's geographic database of addresses, streets, and boundaries. The Census Bureau uses its geographic database to link demographic data from surveys and the decennial Census to locations and areas, such as cities, school districts, and counties. To tabulate statistics by localities, the Census Bureau must have accurate addresses and boundaries.

The boundaries collected in PSAP and other geographic programs will create census blocks, which are the building blocks for all Census Bureau geographic boundaries. The addresses collected in the 2020 Census Local Update of Census Addresses Operation (LUCA) will place households in a specific census block. While the geographic programs differ in requirements, timeframe, and participants, PSAP and the other geographic programs all follow the same basic process:

1. The Census Bureau invites eligible participants to the program. For PSAP, the Census Bureau invites federally recognized tribes, Alaska Native Regional Associations, local or regional planning agencies, and council of government officials.

2. If they elect to participate in the program, participants receive a copy of the boundaries or addresses the Census Bureau has on file. PSAP participants receive a free customized mapping software.

3. Participants review the boundaries or addresses in the Census Bureau provided software and update them if needed. For PSAP, the Census Bureau strongly recommends that PSAP participants reach out to local governments to collect updates.

4. Participants return their updates to the Census Bureau.

5. The Census Bureau updates their geographic database with boundary updates from participants.

6. The Census Bureau uses the newly updated boundaries and addresses to tabulate statistics.

PSAP allows participants to review and suggest modifications to the boundaries for block groups, census tracts, census county divisions (CCDs), and census designated places (CDPs). Additionally, tribal governments can review or propose changes for tribal statistical areas, which include: Tribal block groups (TBGs), tribal census tracts (TCTs), CDPs, tribal designated statistical areas (TDSAs), state designated tribal statistical areas (SDTSAs), state reservations,¹ Alaska Native village statistical areas (ANVSAs), Oklahoma tribal statistical areas (OTSAs), and OTSA tribal subdivisions.

¹ State reservations are not statistical areas, but they are included in PSAP for administrative reasons.

The PSAP geographies represent statistical units for the tabulation and dissemination of small area data from the decennial census, the American Community Survey (ACS), and other Census Bureau programs and surveys. While legal boundaries, such as cities and counties, allow the Census Bureau to publish data by those areas, local governments often need data for planning by smaller units. PSAP is a unique program initiated and executed by the Census Bureau to allow local and regional governments to break larger geographic areas into smaller units so that they can receive 2020 Census and ACS data by these smaller units and better plan local services. The Census Bureau uses the information collected in PSAP from participating governments and agencies to tabulate and disseminate small area data from the decennial census, the American Community Survey (ACS), and other Census Bureau programs and surveys. In addition, these statistical geographies and the data they provide serve as input to governing, allocating federal funding, and planning of capital expenditures and basic infrastructure investment at the tribal, state, and county levels.

The 2020 Census PSAP occurs between March 2018 and October 2020 and has three primary components:

1. PSAP Internal Review.

2. PSAP Delineation.

3. PSAP Verification.

1. PSAP Internal Review

Census Bureau staff performs an internal review of PSAP entities prior to the distribution of materials to PSAP participants. This internal review ensures each of the statistical areas meets the population, housing, and geographic criteria as defined by the program. During the internal review process, the Census Bureau reviews, revises, and updates a draft plan of these statistical areas. This geographic plan aims to help participants efficiently identify and prioritize areas that need to be reviewed and revised for their local areas.

From March 2018 through May 2018, Census Bureau staff initially contacts the 2010 Census PSAP participants to solicit participation in the 2020 Census PSAP. If 2010 Census PSAP participants decline to participate in the 2020 Census PSAP, the Census Bureau will reach out and invite local or regional planning agencies (RPAs) that can cover relatively large areas. To obtain coverage nationwide, the Census Bureau works with federally recognized tribes, Alaska Native Regional Associations (ANRAs), local or regional planning agencies, and councils of government officials (COGs). The Census Bureau strongly recommends PSAP participants to seek input from other census data users and stakeholders regarding 2020 Census PSAP statistical area delineations. Participants reach out to local governments for additional inputs and coordinate the multiple interests and requests that arise. Local governments that are interested in participating may contact the participants covering their area. The Census Bureau will publish the contact information of the 2020 Census PSAP participants on the PSAP Web site. The Census Bureau will contact federally recognized tribes to solicit their participation in the 2020 Census PSAP. For state recognized tribes, the Census Bureau will invite state governors to designate or appoint a state tribal liaison for the 2020 Census PSAP. The Census Bureau will also contact State Data Centers to help build the 2020 Census PSAP invitation and communication lists.

In July 2018, participants receive an official invitation package with a Contact Update Form that they fill out and return to the Census Bureau by mail. The Census Bureau then sends reminder packages to participants who do not respond in the time period mentioned on the Contact Update Form.

2. PSAP Delineation

In January 2019, the Census Bureau notifies program participants of the start of the delineation phase. The Census Bureau conducts the delineation phase of the 2020 Census PSAP boundaries using the web-based Geographic Update Partnership Software (GUPS), a customized geographic information system (GIS) based on an open-source platform. Participants can either download the materials and software online from the Census Bureau's Web site or have them shipped on DVDs. Participants have a maximum of 120 days from the date of receipt of materials to complete and submit statistical geography updates to the Census Bureau.

3. PSAP Verification

The verification phase starts January 2020 and allows participants to review the proposed edits from Census Bureau geographers. The Census Bureau sends a prepaid postcard to participants asking them to verify, accept, or reject the final version of the proposed plan, which is available online or by paper maps for tribal participants. Participants have 90 calendar days to review updates. Census Bureau staff contacts non-respondents through a follow-up mail-out and follow-up telephone calls. Once the Census Bureau receives the postcard with a participant's approval or acceptance of the final verification plan, the Census Bureau finalizes the 2020 statistical boundaries.

Method of Collection: The Census Bureau offers two methods of collection for the 2020 Census PSAP:

1. GUPS submission (electronic): The Census Bureau uses several formats to collect information and updates for statistical boundaries during the internal review, delineation, and verification phases. The Census Bureau collects updated contact information from participants who choose to participate in the program online, by email, and by telephone. The Census Bureau-provided software, GUPS, is the only method of response for state and local governments. However, tribal participants reviewing TBGs, TCTs, or CDPs may elect to use GUPS or Census Bureau provided paper map products to review and edit tribal statistical geographies.

2. Paper map submission: Participants reviewing ANVSAs, OTSAs, OTSA tribal subdivisions, TDSAs, or SDTSAs are provided Census Bureau paper map products to review and edit tribal statistical areas.

2020 Census PSAP Schedule
Date | Event
March-May 2018 | Contact 2010 Census PSAP participants to inquire about 2020 Census PSAP participation.
July 2018 | PSAP invitation materials sent to PSAP participants.
January 2019 | PSAP delineation phase begins. Participants have 120 calendar days to submit updates.
February 2019 | PSAP Webinar trainings begin.
July 2019 | Send PSAP participants communication notifying closeout of delineation phase.
January 2020 | PSAP verification phase begins. Participants have 90 calendar days to review updates.

Affected Public: All federally or state recognized American Indian tribes and Alaska Natives in the United States, states, counties, local governments, and planning agencies.

Frequency: PSAP occurs once per decade in order to support the Decennial Census, the American Community Survey, and other Census Bureau programs and surveys.

Respondent's Obligation: Voluntary.

Legal Authority: Title 13 U.S.C. Section 6.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-25644 Filed 11-27-17; 8:45 am]

BILLING CODE 3510-07-P